DEPARTMENT OF HOUSING AND URBAN DEVELOPMENT

[Docket No. FR-5076-D-02]

Order of Succession for the Office of the Chief Procurement Officer

AGENCY: Office of the Chief Procurement Officer, HUD.

ACTION: Notice of order of succession.

SUMMARY: In this notice, the Chief Procurement Officer designates the Order of Succession for the Office of the Chief Procurement Officer. The Office of the Chief Procurement Officer was previously part of the Office of Administration.

Effective Date: July 13, 2006.

FOR FURTHER INFORMATION CONTACT: David R. Williamson, Associate Chief Procurement Officer, Office of the Chief Procurement Officer, Department of Housing and Urban Development, 451 Seventh Street, SW., Room 5278, Washington, DC 20410-3000, telephone (202) 708-0600. (This is not a toll-free number.) This number may be accessed through TTY by calling the toll-free Federal Information Relay Service number at 1-(800) 877-8339.

SUPPLEMENTARY INFORMATION: The Chief Procurement Officer is issuing this Order of Succession of officials authorized to perform the duties and functions of the Office of the Chief Procurement Officer when, by reason of absence, disability, or vacancy in the office, the Chief Procurement Officer is not available to exercise the powers or perform the duties of the office. This Order of Succession is subject to the provisions of the Federal Vacancies Reform Act of 1998 (5 U.S.C. 3345-3349d).

The Office of the Procurement Officer was previously part of the Office of Administration, but is now an independent office. Elsewhere in this edition of the Federal Register, HUD's Office of Administration is publishing an updated Order of Succession for the Office of Administration that reflects the current structure of the Office of Administration, which excludes the Office of the Chief Procurement Officer.

Accordingly, the Chief Procurement Officer designates the following Order of Succession:

Order of Succession

Subject to the provisions of the Federal Vacancies Reform Act of 1998, during any period when, by reason of absence, disability, or vacancy in office, the Chief Procurement Officer is not available to exercise the powers or perform the duties of the Office of the Chief Procurement Officer, the following officials within the Office of the Chief Procurement Officer are hereby designated to exercise the powers and perform the duties of the Chief Procurement Officer:

(1) Deputy Chief Procurement Officer;

(2) Assistant Chief Procurement Officer, Program Operations;

(3) Assistant Chief Procurement Officer, Support Operations;

(4) Assistant Chief Procurement Officer, Policy and Systems;

(5) Assistant Chief Procurement Officer, Field Operations;

(6) Director, Field Contracting Operations (Southern);

(7) Director, Field Contracting Operations (Western);

(8) Director, Field Contracting Operations (Northern).

The officials shall perform the functions and duties of this office in the order specified herein, and no official shall serve unless all the other officials, whose position titles precede his or hers in this order, are unable to act by reason of absence, disability, or vacancy in office.

Authority: Section 7(d), Department of Housing and Urban Development Act (42 U.S.C. 3535(d)).

Dated: July 13, 2006.
Joseph A. Neurauter,
Chief Procurement Officer.

[FR Doc. E6-17053 Filed 10-17-06; 8:45 am]

BILLING CODE 4210-67-P